DEPARTMENT OF TRANSPORTATION

Surface Transportation Board

[Docket No. FD 35396]

County of Greenville, S.C.—Acquisition Exemption—Greenville County Economic Development Corporation

The County of Greenville, S.C. (County), a noncarrier political subdivision of the State of South Carolina, has filed a verified notice of exemption under 49 CFR 1150.31 to acquire from Greenville County Economic Development Corporation (GCEDC) approximately 11.8 miles of rail line between milepost 0.0 in Greenville, S.C. and milepost 11.8 in Travelers Rest, S.C.¹

¹ The line is railbanked in accordance with the National Trails System Act, 16 U.S.C. 1247(d). See Greenville County Economic Development Corporation—Abandonment and Discontinuance Exemption—in Greenville County, S.C., Docket No. AB 490 (Sub-No. 1X) (STB served Oct. 12, 2005 and Nov. 13, 2006).

Petitioners state that, as a result of the transaction, the County will acquire GCEDC's interest in the line, including the residual common carrier obligation. GCEDC will assign its interest in a trail agreement reached with the Greenville County Recreation District (GCRD) on September 26, 2006, and the County will assume all of GCEDC's rights and responsibilities under that agreement. GCRD will retain its leasehold interest in the line and will continue to be the trail owner and operator. The end result will be that all of GCEDC's ownership rights and responsibilities in the line will be transferred to the County. According to petitioners, the proposed acquisition will not involve any provision or agreement between GCEDC and the County that would limit future interchange with a third-party connecting carrier.

The transaction is scheduled to be consummated on or after August 25, 2010 (30 days after the notice of exemption was filed).

The County certifies that its projected annual revenues as a result of this transaction will not exceed those that would qualify it as a Class III rail carrier and further certifies that its projected annual revenue will not exceed $5 million.

If the verified notice contains false or misleading information, the exemption is void ab initio. Petitions to revoke the exemption under 49 U.S.C. 10502(d) may be filed at any time. The filing of a petition to revoke will not automatically stay the effectiveness of the exemption. Petitions to stay must be filed no later than August 18, 2010 (at least 7 days before the exemption becomes effective).

An original and 10 copies of all pleadings, referring to Docket No. FD 35396, must be filed with the Surface Transportation Board, 395 E Street, SW., Washington, DC 20423-0001. In addition, a copy must be served on William A. Mullins, 2401 Pennsylvania Ave., NW., Suite 300, Washington, DC 20037.

Board decisions and notices are available on our Web site at http://www.stb.dot.gov.

Decided: August 6, 2010.
By the Board, Rachel D. Campbell, Director, Office of Proceedings.
Jeffrey Herzig,
Clearance Clerk.

[FR Doc. 2010-19792 Filed 8-11-10; 8:45 am]

BILLING CODE 4915-01-P